DEPARTMENT OF DEFENSE

48 CFR Parts 226 and 252

[DFARS Case 2000-0024]

Defense Federal Acquisition Regulation Supplement; Utilization of Indian Organizations and Indian-Owned Economic Enterprises

Correction

In rule document 01-22424 beginning on page 47110 in the issue of Tuesday, September 11, 2001, make the following corrections:

1. On page 47110, in the third column, under the heading ADDRESSES in the second paragraph, “Case 2000-024 ” should read “Case 2000-D024 ”.

226.104 [Corrected]

2. On page 47111, in the second column, section 226.104, in the amendatory text “225.104” should read “226.104”.

252.226-7001 [Corrected]

3. On the same page, in the third column, in section 252.226-7001, in paragraph (b), in the first line “Contract ” should read “Contractor ”.

4. On the same page, in the same column, in the same section, in paragraph (c), in the fifth line, “and ” should read “an ”.

5. On the same page, in the same column, in the same section, in paragraph (d)(1), in the first line “59 ” should read “50 ”

6. On the same page, in the same column, in the same section, in paragraph (e)(1)(i), in the first line, “cost-type ” should read“a cost-type ”.

[FR Doc. C1-22424 Filed 10-2-01; 8:45 am]

BILLING CODE 1505-01-D

DEPARTMENT OF DEFENSE

48 CFR Part 252

[DFARS Case 2000-0302]

Defense Federal Acquisition Regulation Supplement; Caribbean Basin Country End Products

Correction

In rule document 01-22425 beginning on page 47112 in the issue of Tuesday, September 11, 2001, make the following corrections:

1. On page 47112, in the third column, under the heading ADDRESSES , in the second paragraph, in the eighth line, “ (703) 602-0950 ” should read “ (703) 602-0350 ”.

252.225-7007 [Corrected]

2. On page 47113, in the second column, in section 252.225-7007, in the first line, paragraph “(A) ” should read paragraph “(a) ”. ,

252.225-7021 [Corrected]

3. On the same page, in the third column, in section 252.225-7021, in paragraph (e) (4), in the first line, “Chapter 98, Subchapter 98 ” should read “Chapter 98, ”.

[FR Doc. C1-22425 Filed 10-2-01; 8:45 am]

BILLING CODE 1505-01-D

DEPARTMENT OF DEFENSE

48 CFR Part 253

[DFARS Case 2001-0004]

Defense Federal Acquisition Regulation Supplement; Reporting Requirements Update

Correction

In rule document 01-22420 beginning on page 47096 in the issue of Tuesday, September 11, 2001, make the following correction:

253.204-70 [Corrected]

On page 47103, in the third column, in section 253.204-70, in paragraph (B)(5) “Code E” should read ÿ7E“Code E—”.

[FR Doc. C1-22420 Filed 10-2-01; 8:45 am]

BILLING CODE 1505-01-D

ENVIRONMENTAL PROTECTION AGENCY

40 CFR Part 63

[FRL-7039-4]

RIN 2060-AG27

National Emission Standards for Hazardous Air Pollutants for Boat Manufacturing

Correction

In rule document 01-20895 beginning on page 44218 in the issue of Wednesday, August 22, 2001, make the following corrections:

§63. 5710 [Corrected]

1. On page 44235, in the second column, in §63.5710 (c), in the sixth line from the bottom, “ PVOP=weighted-average MACT model point value for each open molding operation (PVR, PVPG, PVCG, PVPVTR, and PVPVTG) included in the average, kilograms of HAP per megagram of material applied” should read “PVOP=weighted-average MACT model point value for each open molding operation (PVR, PVPG, PVCG, PVTR, and PVTG) included in the average, kilograms of HAP per megagram of material applied ”.

§63.5779 [Corrected]

2. On page 44246, in Table 3 to Subpart VVV, in the second column, in §63.5779, “b. Atomized plus vacumm ” should read “b. Atomized plus vacuum”.

[FR Doc. C1-20895 Filed 10-2-01; 8:45 am]

BILLING CODE 1505-01-D